DEPARTMENT OF COMMERCE

National Oceanic and Atmospheric Administration

[I.D. 072000C]

New England Fishery Management Council; Public Meetings

AGENCY: National Marine Fisheries Service (NMFS), National Oceanic and Atmospheric Administration (NOAA), Commerce.

ACTION: Notice of public meeting.

SUMMARY: The New England Fishery Management Council (Council) is scheduling a joint public meeting of its Groundfish Oversight Committee and Groundfish Advisory Panel in August, 2000. Recommendations developed as a result of this meeting will be brought to the full Council for formal consideration and action, if appropriate.

DATES: The meeting will be held on Tuesday, August 15, 2000, at 10 a.m.

ADDRESSES: The meeting will be held at the Radisson Warwick Hotel, 2081 Post Road, Warwick, RI 02886; telephone: (401) 739-3000.

FOR FURTHER INFORMATION CONTACT: Paul J. Howard, Executive Director, New England Fishery Management Council; (978) 465-0492.

SUPPLEMENTARY INFORMATION: The committee and its advisors will conduct a joint meeting to continue development of management options for Amendment 13 to the Northeast Multispecies Fishery Management Plan. These groups will refine the alternative management approaches under consideration for Amendment 13 to the Northeast Multispecies Fishery Management Plan and will begin to develop definitive proposals. They will incorporate any guidance received from the full Council at its July Council meeting into their discussions. They also may review information on the current four year-round area closures, and develop preliminary options for changes to those areas.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: July 24, 2000.
Richard W. Surdi,
Acting Director, Office of Sustainable Fisheries, National Marine Fisheries Service.

[FR Doc. 00-19280 Filed 7-28-00; 8:45 am]

BILLING CODE 3510-22-F